DEPARTMENT OF TRANSPORTATION

Federal Railroad Administration

Petition for Waiver of Compliance

In accordance with part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favour of relief.

TTX Company

[Docket Number FRA-2005-21832]

The TTX Company (TTX), seeks a waiver of compliance from the requirements of Title 49 Code of Federal Regulations (CFR) 215. 203(a)(1) Restricted Cars, for two series of sixty-foot long, seventy-ton capacity general service flat cars. These cars were built by two manufacturers, Pullman-Standard, car numbers 90000-94217 and Thrall car numbers 97100-98225. The subject cars were originally built as wood deck, general service cars, but some were modified by TTX for intermodal service. The modified cars had no changes made to their underframe structure, but they did have the required transverse crossmembers applied to permit loading of twenty-foot and forty-foot intermodal containers.

None of the cars covered by this petition have reached an age of fifty years, measured from the date of original construction, as of this date. However, TTX requests that these two series of cars be permitted to operate in revenue service, up to a maximum of sixty-five years as measured from the date of original construction.

To ensure the safety of these cars, for their extended service life, TTX is conducting a rigorous analysis and testing program to validate that the carbody structure of these sixty-foot cars is capable of a maximum sixty-five year life. Typical cars from the subject series were placed in service with on-board instrumentation to record the service environment over various routes. This data will be used by the Transportation Technology Center, Incorporated (TTCI) to develop the test protocol for the Simuloader (hydraulic test apparatus) to simulate the additional years of service. At the end of testing, TTCI will prepare a final report, and submit the results to FRA for evaluation; therefore, TTX requests a waiver from the requirements of 49 CFR 215. 203(a)(1) to allow for the submission of the design analysis and test data to support an increased service life of the subject cars from fifty to sixty-five years, prior to obtaining an age of fifty years from the date of original construction.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2005-21832) and must be submitted in triplicate to the Docket Clerk, DOT Central Docket Management Facility, Room Pl-401, Washington, DC. 20590-0001. Communications received within 45 days of the date of this notice will be considered by FRA before final action is taken. Comments received after that date will be considered as far as practicable. All written communications concerning these proceedings are available for examination during regular business hours (9 a.m.-5 p.m.) at DOT Central Docket Management Facility, Room Pl-401 (Plaza Level), 400 Seventh Street SW., Washington. All documents in the public docket are also available for inspection and copying on the Internet at the docket facility's Web site at http://dms.dot.gov.

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19377-78). The statement may also be found at http://dms.dot.gov.

Issued in Washington, DC on May 3, 2006
Grady C. Cothen, Jr.,
Deputy Associate Administrator for Safety Standards and Program Development.

[FR Doc. E6-7051 Filed 5-8-06; 8:45 am]

BILLING CODE 4910-06-P